DEPARTMENT OF ENERGY

Federal Energy Regulatory Commission

[Docket No. CP17-79-000]

Florida Gas Transmission Company, L.L.C.; Notice of Revised Schedule for Environmental Review of the Wekiva Parkway Relocation Project

This notice identifies the Federal Energy Regulatory Commission staff's revised schedule for the completion of the environmental assessment (EA) for the Florida Gas Transmission Company, L.L.C. (Florida Gas) Wekiva Parkway Relocation Project. The first notice of schedule, issued on June 7, 2017, identified July 28, 2017 as the EA issuance date. However, due to additional environmental information to be filed by Florida Gas since issuance of the June 7, 2017 Scheduling Notice, the Commission staff requires more time to complete our review. As a result, staff has revised the schedule for issuance of the EA, to allow for time to incorporate supplemental information into the final document.

Schedule for Environmental Review

Issuance of Notice of Availability of EA: September 14, 2017.

90-day Federal Authorization Decision Deadline: December 13, 2017.

If a schedule change becomes necessary, an additional notice will be provided so that the relevant agencies are kept informed of the project's progress.

Additional Information

In order to receive notification of the issuance of the EA and to keep track of all formal issuances and submittals in specific dockets, the Commission offers a free service called eSubscription (www.ferc.gov/docs-filing/esubscription.asp).

Dated: July 27, 2017.
Kimberly D. Bose,
Secretary.

[FR Doc. 2017-16746 Filed 8-8-17; 8:45 am]

BILLING CODE 6717-01-P